DEPARTMENT OF HOMELAND SECURITY

U.S. Citizenship and Immigration Services

[CIS No. 2819-25; DHS Docket No. USCIS-2014-0006]

RIN 1615-ZB69

Termination of the Designation of Nicaragua for Temporary Protected Status

AGENCY: U.S. Citizenship and Immigration Services (USCIS), Department of Homeland Security (DHS).

ACTION: Notice.

SUMMARY: Through this notice, the Department of Homeland Security (DHS) announces that the Secretary of Homeland Security (Secretary) is terminating the designation of Nicaragua for Temporary Protected Status (TPS). The designation of Nicaragua is set to expire on July 5, 2025. After reviewing country conditions and consulting with appropriate U.S. Government agencies, the Secretary determined that Nicaragua no longer continues to meet the conditions for designation for TPS. The Secretary, therefore, is terminating the TPS designation of Nicaragua as required by statute. This termination is effective September 8, 2025. After September 8, 2025, nationals of Nicaragua (and aliens having no nationality who last habitually resided in Nicaragua) who have been granted TPS under Nicaragua's designation will no longer have TPS.

DATES: The designation of Nicaragua for TPS is terminated, effective at 11:59 p.m., local time, on September 8, 2025.

FOR FURTHER INFORMATION CONTACT: Humanitarian Affairs Division, Office of Policy and Strategy, U.S. Citizenship and Immigration Services, Department of Homeland Security, (240) 721-3000 (not a toll-free call).

SUPPLEMENTARY INFORMATION:

Table of Abbreviations

CFR—Code of Federal Regulations

DHS—U.S. Department of Homeland Security

EAD—Employment Authorization Document

FR—Federal Register

FRN—Federal Register Notice

Government—U.S. Government

INA—Immigration and Nationality Act

Secretary—Secretary of Homeland Security

TPS—Temporary Protected Status

USCIS—U.S. Citizenship and Immigration Services

U.S.C.—United States Code

What is Temporary Protected Status (TPS)?

The Immigration and Nationality Act (INA) authorizes the Secretary of Homeland Security, after consultation with appropriate agencies of the U.S. Government, to designate a foreign state (or part thereof) for TPS if the Secretary determines that certain country conditions exist. See INA sec. 244(b)(1), 8 U.S.C. 1254a(b)(1). The Secretary, in her discretion, may grant TPS to eligible nationals of that foreign state (or aliens having no nationality who last habitually resided in the designated foreign state). See INA sec. 244(a)(1)(A), 8 U.S.C. 1254a(a)(1)(A).

At least 60 days before the expiration of a foreign state's TPS designation or extension, the Secretary—after consultation with appropriate U.S. Government agencies—must review the conditions in the foreign state designated for TPS to determine whether they continue to meet the conditions required for the TPS designation. See INA sec. 244(b)(3)(A), 8 U.S.C. 1254a(b)(3)(A). If the Secretary determines that the conditions in the foreign state continue to meet the specific statutory criteria for TPS designation, TPS will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B). There is no judicial review of “any determination of the [Secretary] with respect to the designation, or termination or extension of a designation, of a foreign state” for TPS. INA sec. 244(b)(5)(A), 8 U.S.C. 1254a(b)(5)(A).

TPS is a temporary immigration benefit granted to eligible nationals of a country designated for TPS under the INA, or to eligible aliens without nationality who last habitually resided in the designated country. During the TPS designation period, TPS beneficiaries are eligible to remain in the United States, may not be removed, and are authorized to work and obtain an Employment Authorization Document (EAD) so long as they continue to meet the requirements of TPS. TPS beneficiaries may also apply for and be granted travel authorization as a matter of discretion. The granting of TPS does not result in or lead to lawful permanent resident status or any other immigration status. To qualify for TPS, beneficiaries must meet the eligibility standards at INA section 244(c)(2), 8 U.S.C. 1254a(c)(2). When the Secretary terminates a country's TPS designation, beneficiaries return to the same immigration status or category that they maintained before TPS, if any (unless that status or category has since expired or been terminated), or any other lawfully obtained immigration status or category they received while registered for TPS, as long as it is still valid on the date TPS terminates.

Designation of Nicaragua for TPS

Nicaragua was initially designated for TPS over 25 years ago based on a determination that an environmental disaster resulted in a substantial, but temporary, disruption of living conditions in the area affected. The Nicaraguan government officially requested the designation, and Nicaragua was unable, temporarily, to handle adequately the return of its nationals. See Designation of Nicaragua Under Temporary Protected Status, 64 FR 526 (Jan. 5, 1999). Since its initial designation in 1999, TPS for Nicaragua was extended 13 consecutive times (for periods of 12 or 18 months at a time) under the same statutory basis of environmental disaster. The last such extension was due to expire on January 5, 2018.¹

¹ Extension of the Designation of Nicaragua for Temporary Protected Status, 81 FR 30325 (July 6, 2016).

Following the statutorily required review of the country conditions, former Acting Secretary Elaine C. Duke announced the termination of TPS for Nicaragua, with an effective date of January 5, 2019. See Termination of the Designation of Nicaragua for Temporary Protected Status, 82 FR 59636 (Dec. 15, 2017); see also INA secs. 244(b)(3)(A) and (B); 8 U.S.C. 1254a(b)(3)(A) and (B). The termination decision was the subject of litigation and court orders, and, as a result, the termination did not take effect. In compliance with court orders, DHS published periodic notices to continue TPS and extend the validity of TPS-related documentation previously issued to beneficiaries under the TPS designation for Nicaragua.²

² 83 FR 54764 (Oct. 31, 2018); 84 FR 7103 (Mar. 1, 2019); 84 FR 20647 (May 10, 2019) (correction notice issued at 84 FR 23578 (May 22, 2019)); 84 FR 59403 (Nov. 4, 2019); 85 FR 79208 (Dec. 9, 2020); 86 FR 50725 (Sept. 10, 2021) (correction notice issued at 86 FR 52694 (Sept. 22, 2021)); and 87 FR 68717 (Nov. 16, 2022).

Finally, on June 21, 2023, DHS published a FRN reconsidering and rescinding the prior administration's termination of Nicaragua TPS. The rescission was effective June 9, 2023, and the new 18-month extension of TPS for Nicaragua began on January 6, 2024, and will remain in effect through July 5, 2025.³

³ Reconsideration and Rescission of Termination of the Designation of Nicaragua for Temporary Protected Status; Extension of the Temporary Protected Status Designation for Nicaragua, 88 FR 40294 (June 21, 2023); see also Extension of Re-Registration Periods for Extensions of the Temporary Protected Status Designations of El Salvador, Haiti, Honduras, Nepal, Nicaragua, and Sudan, 88 FR 86665 (Dec. 14, 2023).

Secretary's Authority To Terminate the Designation of Nicaragua for TPS

At least 60 days before the expiration of a foreign state's TPS designation or extension, the Secretary, after consultation with appropriate U.S. Government agencies, must review the conditions in the foreign state designated for TPS to determine whether the country continues to meet the conditions required for the TPS designation. See INA sec. 244(b)(3)(A), 8 U.S.C. 1254a(b)(3)(A). If the Secretary determines that the foreign state no longer meets the conditions for the TPS designation, the Secretary must terminate the designation. See INA sec. 244(b)(3)(B), 8 U.S.C. 1254a(b)(3)(B). The termination may not take effect earlier than 60 days after the date the Federal Register notice (FRN) of termination is published, or if later, the expiration of the most recent previous extension of the country designation. See id. The Secretary may determine the appropriate effective date of the termination and expiration of any TPS-related documentation, such as EADs, issued or renewed after the effective date of termination. See id.; see also INA sec. 244(d)(3), 8 U.S.C. 1254a(d)(3) (providing the Secretary the discretionary “option” to allow for a certain “orderly transition” period if she determines it to be appropriate).

Reasons for the Secretary's Termination of the TPS designation for Nicaragua

Consistent with INA section 244(b)(3)(A), 8 U.S.C. 1254a(b)(3)(A), after consulting with appropriate U.S. Government agencies, the Secretary reviewed country conditions in Nicaragua and considered whether Nicaragua no longer continues to meet the conditions for designation, including whether there is “substantial, but temporary, disruption in living conditions in the area affected” by the environmental disaster and whether Nicaragua continues to be “unable, temporarily, to handle adequately the return” of its nationals, INA 244(b)(1)(B), 1254a(b)(1)(B).⁴ Overall, certain conditions for the TPS designation of Nicaragua may continue; however, there are notable improvements that allow Nicaragua to adequately handle the return of its nationals.

⁴ See also E.O. 14159, Protecting the American People Against Invasion, sec. 16(b), 90 FR 8443, 8446 (Jan. 20, 2025) (directing that the Secretary should “ensur[e] that designations of Temporary Protected Status are consistent with the provisions of section 244 of the INA (8 U.S.C. 1254a), and that such designations are appropriately limited in scope and made for only so long as may be necessary to fulfill the textual requirements of that statute”).

Based on the Department's review, the Secretary has determined the conditions supporting Nicaragua's January 5, 1999 designation for TPS on the basis of environmental disaster due to Hurricane Mitch are no longer met. While Hurricane Mitch was a sudden catastrophe that caused severe flooding and associated damage ⁵ leading to Nicaragua's TPS designation, the conditions resulting from Hurricane Mitch no longer cause a substantial, but temporary, disruption in living conditions in the area affected, and Nicaragua is no longer unable, temporarily, to adequately handle the return of its nationals. Nicaragua has made significant progress recovering from the hurricane's destruction with the help of the international community ⁶ and is now a growing tourism, ecotourism, agriculture, and renewable energy leader.⁷

⁵ National Environmental Satellite, Data, and Information Service, 25 Years Later: Looking Back at the October Monster Named Mitch (Oct. 27, 2023), available at: https://www.nesdis.noaa.gov/news/25-years-later-looking-back-the-october-monster-named-mitch (last visited Apr. 14, 2025).

⁶ ProVention Consortium, Learning from Recovery after Hurricane Mitch: Experience from Nicaragua (Jan. 26, 2010), available at: https://www.preventionweb.net/files/12455_LearningfromMitchsummary1.pdf (last visited Apr. 14, 2025).

⁷ The Business Magnate, Nicaragua's Lucrative Industries: Driving Economic Growth and Development, available at: https://thebusinessmagnate.com/nicaraguas-lucrative-industries-driving-economic-growth-and-development/ (last visited Apr. 14, 2025).

Since the original 1999 TPS designation, Nicaragua has seen improvements in its infrastructure with projects focusing on road construction, school infrastructure, and health access. Nicaragua has successfully completed projects on roads (U.S. $131.8 million), education (U.S. $69 million), and land administration (U.S. $50 million).⁸ Nicaragua has constructed key bridges to mitigate flooding, as well as developed over 200 km (approximately 124 miles) of roads.⁹ Decades-long projects have improved land administration and management, and further investment projects have helped with housing, food insecurity, and restoring the health sector.¹⁰

⁸ World Bank Group, The World Bank in Nicaragua: Overview, Oct. 8, 2024, available at: https://www.worldbank.org/en/country/nicaragua/overview (last visited Apr. 14, 2025).

⁹ World Bank Group, The World Bank in Nicaragua: Overview, Oct. 8, 2024, available at: https://www.worldbank.org/en/country/nicaragua/overview (last visited Apr. 14, 2025).

¹⁰ World Bank Group, The World Bank in Nicaragua: Overview, Oct. 8, 2024, available at: https://www.worldbank.org/en/country/nicaragua/overview (last visited Apr. 14, 2025).

Nicaragua has become a worldwide tourist destination, while also promoting sustainability and revitalizing local communities.¹¹ Technological innovation is empowering local farmers and fishers, making the agriculture industry more competitive and profitable. In its 2024 investment climate statement for Nicaragua, the U.S. Department of State reported, “. . . Nicaragua continues to show stable macroeconomic fundamentals, including a record-high $5 billion in foreign reserves, a sustainable debt load, and a well-capitalized banking sector.” ¹²

¹¹ Outlook Travel, Nicaragua: Tourism Insights, Oct. 4, 2024, available at: https://www.outlooktravelmag.com/travel-guides/central-america/nicaragua/nicaragua-tourism-insights (last visited Apr. 14, 2024).

¹² U.S. Department of State, 2024 Investment Climate Statements: Nicaragua, 2024, available at: https://www.state.gov/reports/2024-investment-climate-statements/nicaragua/ (last visited Mar. 19, 2025).

Additionally, Nicaragua has been regularly accepting the return of its nationals with final removal orders over the last five years.¹³ The Secretary has determined that Nicaragua's recent ability to accept the return of its nationals has been and continues to be at least “adequate.” ¹⁴

¹³ Divergentes, Ortega-Murillo Regime: A Willing and Efficient Partner for U.S. Deportation Policies, Mar. 6, 2025, available at: https://www.divergentes.com/ortega-murillo-regime-a-willing-and-efficient-partner-for-u-s-deportation-policies/#:~:text=Unlike%20its%20dictatorial%20counterparts%E2%80%94Cuba,of%20Homeland%20Security%20(DHS) (last visited June 5, 2025).

¹⁴ The INA does not define “adequately.” Certain “[d]ictionaries define `adequate' as “sufficient for a specific need or requirement,” Adequate, Merriam-Webster's Collegiate Dictionary, or as either: (1) “[f]ully satisfying what is required; quite sufficient, suitable, or acceptable in quality or quantity”; or (2) “[s]atisfactory, but worthy of no stronger praise or recommendation; barely reaching an acceptable standard; just good enough,” Adequate, Oxford English Dictionary (3d ed. 2011).” Booker v. Sec'y, Fla. Dep't of Corr., 22 F.4th 954, 961 (11th Cir. 2022) (Lagoa, J., specially concurring) (URL citation omitted).

DHS estimates that there are approximately 4,000 nationals of Nicaragua (and aliens having no nationality who last habitually resided in Nicaragua) who hold TPS under Nicaragua's designation.¹⁵

¹⁵ As of March 11, 2025, approximately 1,100 of these nationals of Nicaragua (and aliens having no nationality who last habitually resided in Nicaragua) are also approved as Lawful Permanent Residents. Data queried by Department of Homeland Security, U.S. Citizenship and Immigration Services, Office of Performance and Quality March 2025.

Effective Date of Termination of the Designation

The TPS statute provides that the termination of a country's TPS designation may not be effective earlier than 60 days after the FRN is published or, if later, the expiration of the most recent previous extension. See INA sec. 244(b)(3)(B), 8 U.S.C. 1254a(b)(3)(B).

Although the statute authorizes the Secretary, at her discretionary option, to allow for an extended “orderly transition” period with respect to the expiration of any TPS-related documentation, such as EADs, the Secretary has determined a 60-day transition period is sufficient. A sixty-day orderly period of transition is consistent with the precedent of previous TPS country terminations and makes clear that the United States is committed to clarity and consistency. See INA sec. 244(d)(3), 8 U.S.C. 1254a(d)(3). Accordingly, the termination of the Nicaragua TPS designation will be effective 60 days from this notice's publication date.¹⁶

¹⁶ See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

However, DHS recognizes that Nicaragua TPS beneficiaries continue to be employment authorized during the 60-day transition period.¹⁷ Accordingly, through this FRN, DHS automatically extends the validity of certain EADs previously issued under the TPS designation of Nicaragua through September 8, 2025. Therefore, as proof of continued employment authorization through September 8, 2025, TPS beneficiaries can show their EADs that have the notation A-12 or C-19 under Category and a “Card Expires” date of January 5, 2018, January 5, 2019, April 2, 2019, January 2, 2020, January 4, 2021, October 4, 2021, December 31, 2022, June 30, 2024, and July 5, 2025.

¹⁷ See INA 244(a)(1)(B), 8 U.S.C. 1254a(a)(1)(B); see also 8 CFR 244.13(b).

The Secretary has considered putative reliance interests in the Nicaragua TPS designation, especially when considering whether to allow for an additional transition period similar to that allowed under certain previous TPS terminations. Temporary Protected Status, as the name itself makes clear, is an inherently temporary status. TPS designations are time-limited and must be periodically reviewed. See INA sec. 244(b)(3), 8 U.S.C. 1254a(b)(3). TPS notices clearly notify aliens of the designations' expiration dates, and whether to allow for an orderly transition period is left to the Secretary's unfettered discretion. See INA sec. 244(b)(3), (d)(3); 8 U.S.C. 1254a(b)(3), (d)(3). The statute inherently contemplates advance notice of a termination by requiring timely publication of the Secretary's determination and delaying the effective date of the termination by at least 60 days after publication of a Federal Register notice of the termination or, if later, the existing expiration date. See INA sec. 244(b)(3), (d)(3); 8 U.S.C. 1254a(b)(3), (d)(3).

Notice of the Termination of the TPS Designation of Nicaragua

By the authority vested in me as Secretary under INA section 244(b)(3), 8 U.S.C. 1254a(b)(3), I have reviewed, in consultation with the appropriate U.S. Government agencies, conditions in Nicaragua, in particular (a) whether there continues to be a substantial, but temporary, disruption of living conditions in the area affected resulting from the environmental disaster; and (b) whether Nicaragua continues to be “unable, temporarily, to handle adequately the return of its nationals. Based on my review, I have determined that Nicaragua no longer continues to meet the conditions for Temporary Protected Status (TPS) under INA section 244(b)(1)(B), 8 U.S.C. 1254a(b)(1)(B).

Accordingly, I order as follows:

(1) Pursuant to INA section 244(b)(3)(B), 8 U.S.C. 1254a(b)(1)(B), and considering INA section 244(d)(3), 8 U.S.C. 1254a(d)(3), the designation of Nicaragua for TPS is terminated effective at 11:59 p.m., local time, on September 8, 2025.

(2) Information concerning the termination of TPS for nationals of Nicaragua (and aliens having no nationality who last habitually resided in Nicaragua) will be available at local USCIS office upon publication of this notice and through the USCIS Contact Center at 1-800-375-5283. This information will be published on the USCIS website at www.uscis.gov.

Kristi Noem,
Secretary of Homeland Security.

[FR Doc. 2025-12688 Filed 7-7-25; 8:45 am]

BILLING CODE 9111-97-P